DEPARTMENT OF ENERGY

Extension of Comment Period for the Draft Complex Transformation Supplemental Programmatic Environmental Impact Statement

AGENCY: National Nuclear Security Administration, Department of Energy.

ACTION: Extension of Comment Period for the Draft Complex Transformation Supplemental Programmatic Environmental Impact Statement.

SUMMARY: On January 11, 2008, NNSA published a Notice of Availability and Public Hearings for the Draft Complex Transformation Supplemental Programmatic Environmental Impact Statement (Draft Complex Transformation SPEIS, DOE/EIS-0236-S4; 73 FR 2023). That notice invited public comment on the Draft Complex Transformation SPEIS through April 10, 2008. NNSA has extended the public comment period through April 30, 2008.

DATES: NNSA invites comments on the Draft Complex Transformation SPEIS through April 30, 2008. NNSA will consider comments received after this date to the extent practicable as it prepares the Final Complex Transformation SPEIS.

ADDRESSES: Written comments on the Draft Complex Transformation SPEIS, as well as requests for additional information and requests for copies of the Draft Complex Transformation SPEIS, should be directed to Mr. Theodore A. Wyka, Complex Transformation Supplemental PEIS Document Manager, Office of Transformation (NA-10.1), National Nuclear Security Administration, U.S. Department of Energy, 1000 Independence Avenue, SW., Washington, DC 20585. Comments also may be submitted by facsimile to 1-703-931-9222, or by e-mail to complextransformation@nnsa.doe.gov. Please mark correspondence “Draft Complex Transformation SPEIS Comments.”

SUPPLEMENTARY INFORMATION: On January 11, 2008, NNSA published a Notice of Availability and Public Hearings for the Draft Complex Transformation Supplemental Programmatic Environmental Impact Statement (Draft Complex Transformation SPEIS, DOE/EIS-0236-S4; 73 FR 2023). That notice invited public comment on the Draft Complex Transformation SPEIS through April 10, 2008. In response to public requests, NNSA has extended the public comment period through April 30, 2008. NNSA will consider comments received after this date to the extent practicable as it prepares the Final Complex Transformation SPEIS.

The Draft Complex Transformation SPEIS and additional information regarding complex transformation are available on the Internet at http://www.ComplexTransformationSPEIS.com and http://www.nnsa.doe.gov.

Issued in Washington, DC, on April 9, 2008.
Thomas P. D'Agostino,
Administrator, National Nuclear Security Administration.

[FR Doc. E8-7869 Filed 4-10-08; 8:45 am]

BILLING CODE 6450-01-P